FEDERAL MARITIME COMMISSION

[Docket No. 12-09]

Century Metal Recycling PVT. LTD v. Dacon Logistics, LLC dba CODA Forwarding, Great American Alliance Insurance Company, Avalon Risk Management, HAPAG Lloyd America, Inc., and Mitsui OSK Lines; Notice of Filing of Complaint and Assignment

Notice is given that a complaint has been filed with the Federal Maritime Commission (Commission) by Century Metal Recycling Pvt. Ltd d/b/a/CMR American, LLC (Century Metal), hereinafter “Complainant,” against Dacon Logistics, LLC dba Coda Forwarding (Dacon); Great American Alliance Insurance Company; Avalon Risk Management; Hapag Lloyd America, Inc. (Hapag Lloyd); and Mitsui OSK Lines (Mitsui), hereinafter “Respondents.” Complainant asserts that it is a private limited company registered in the State of Connecticut. Complainant alleges that: Respondent Dacon is an ocean freight forwarder licensed by the Commission and registered in the State of New Jersey; Respondents Great American Alliance Insurance Company and/or Avalon Risk Management provide insurance bond coverage to Dacon and are located in Cincinnati, OH; Respondent Hapag Lloyd is an ocean carrier “duly registered/licensed” with the Commission, headquartered in Hamburg, Germany and registered in New Jersey; and Respondent Mitsui is a Japanese corporation operating as a vessel operating common carrier in the U.S. foreign trades.

Complainant alleges that Respondent Dacon, with whom Complainant contracted to ship containers containing aluminum and zinc, has failed to pay Hapag Lloyd and Mitsui for ocean freight resulting in refusal by the ocean carriers to release thirty containers. Complainant alleges it is “being charged approximately $3,000-$4,000 per day in detention fees * * *.” Therefore Complainant alleges that Respondent Dacon has violated 46 U.S.C. 41102(c) through “egregious actions * * * and the deprivation of Century Metal's high value property.”

Complainant requests that the Commission issue the following relief:

“(a) An Order compelling Dacon to make payment in the amounts owed to Hapag-Lloyd and Mitsui to facilitate the release of Century Metal's containers; (b) An Order compelling Dacon to pay the injured Century Metal by way of reparations in the amount of actual injury to be determined at hearing, including the amounts paid to suppliers and compensatory damages, including interest paid to bankers on such payments; (c) An Order requiring Dacon to compensate Century Metal for its attorneys' fees and expenses incurred in this matter; (d) An order requiring the release of the bond posted by Dacon with this Commission in favor of Century Metal; (e) An interim ex parte order requiring the shipping line respondents to release the containers to the complainant at the discharge port and to allow waiver of applicable detention charges pending final disposition of this matter; (f) Such other and further relief as the Commission deems just and proper.”

The full text of the complaint can be found in the Commission's Electronic Reading Room at www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by October 25, 2013 and the final decision of the Commission shall be issued by February 24, 2014.

Karen V. Gregory,
Secretary.

[FR Doc. 2012-26702 Filed 10-30-12; 8:45 am]

BILLING CODE 6730-01-P